DEPARTMENT OF DEFENSE

48 CFR Part 250

[DFARS Case 2003-D048]

Defense Federal Acquisition Regulation Supplement; Extraordinary Contractual Actions

AGENCY: Department of Defense (DoD).

ACTION: Final rule.

SUMMARY: DoD has issued a final rule amending the Defense Federal Acquisition Regulation Supplement (DFARS) to update text pertaining to the processing of requests for extraordinary contract adjustments. This rule is a result of a transformation initiative undertaken by DoD to dramatically change the purpose and content of the DFARS.

EFFECTIVE DATE: November 9, 2005.

FOR FURTHER INFORMATION CONTACT: Mr. Euclides Barrera, Defense Acquisition Regulations System, OUSD(AT&L)DPAP(DAR), IMD 3C132, 3062 Defense Pentagon, Washington, DC 20301-3062. Telephone (703) 602-0296; facsimile (703) 602-0350. Please cite DFARS Case 2003-D048.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dars/dfars/transformation/index.htm.

This final rule is a result of the DFARS Transformation initiative. The rule—

• Updates requirements for DoD processing of requests for extraordinary contract adjustments; and

• Deletes procedures for preparation of records and submittal of requests to a contract adjustment board. This text has been relocated to the new DFARS companion resource, Procedures, Guidance, and Information (PGI), available at http://www.acq.osd.mil/dpap/dars/pgi.

DoD published a proposed rule at 70 FR 6393 on February 7, 2005. DoD received no comments on the proposed rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule relates primarily to DoD internal administrative procedures for the processing of requests for extraordinary contract adjustments.

C. Paperwork Reduction Act

The Paperwork Reduction Act does not apply because the rule does not impose any information collection requirements that require the approval of the Office of Management and Budget under 44 U.S.C. 3501, et seq.

List of Subjects in 48 CFR Part 250

Government procurement.

Michele P. Peterson,
Editor, Defense Acquisition Regulations System.

Therefore, 48 CFR Part 250 is amended as follows:

PART 250—EXTRAORDINARY CONTRACTUAL ACTIONS

1. The authority citation for 48 CFR Part 250 continues to read as follows:

Authority: 41 U.S.C. 421 and 48 CFR Chapter 1.

2. Section 250.105 is revised to read as follows:

250.105 Records.

Follow the procedures at PGI 250.105 for preparation of records.

3. Section 250.201-70 is amended by revising paragraph (a) and the last sentence of paragraph (b) introductory text to read as follows:

250.201-70 Delegations.

(a) Military Departments. The Departments of the Army, Navy, and Air Force will specify delegations and levels of authority for actions under the Act and the Executive Order in departmental supplements or agency acquisition guidance.

(b) * * * The agency supplements or agency acquisition guidance shall specify the delegations and levels of authority.

* * * * *

4. Subpart 250.3 is revised to read as follows:

Subpart 250.3—Contract Adjustments

Sec.
250.303-1 Contractor requests.
250.305 Processing cases.
250.306 Disposition.

250.303-1 Contractor requests.

Requests should be filed with the procuring contracting officer (PCO). However, if filing with the PCO is impractical, requests may be filed with an authorized representative, an administrative contracting officer, or the Office of General Counsel of the applicable department or agency, for forwarding to the cognizant PCO.

250.305 Processing cases.

(1) At the time the request is filed, the activity shall prepare the record described at PGI 250.105(1)(i) and forward it to the appropriate official within 30 days after the close of the month in which the record is prepared.

(2) The officer or official responsible for the case shall forward to the contract adjustment board, through departmental channels, the documentation described at PGI 250.305.

(3) Contract adjustment boards will render decisions as expeditiously as practicable. The Chair shall sign a memorandum of decision disposing of the case. The decision shall be dated and shall contain the information required by FAR 50.306. The memorandum of decision shall not contain any information classified “Confidential” or higher. The board's decision will be sent to the appropriate official for implementation.

250.306 Disposition.

For requests denied or approved below the Secretarial level, follow the disposition procedures at PGI 250.306.

[FR Doc. 05-22106 Filed 11-8-05; 8:45 am]

BILLING CODE 5001-08-P